DEPARTMENT OF HOMELAND SECURITY

Bureau of Customs and Border Protection

Notice of Cancellation of Customs Broker National Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker national permits are canceled without prejudice.

Name | Port name | National permit #
Secure Customs Broker, Inc. | Atlanta | 99-00119
Jean D Duncan Customs Brokers, Inc. | Atlanta | 04-00039
Jea Gackowski | Atlanta | 04-00200
RBA Logistics, Inc. | Charlotte | 04-00091
World Commerce Services, Inc. | Chicago | 99-00347
Northstar Drawback Consultants, Ltd. | Chicago | 99-00087
Julia L. Ertler | Chicago | 04-00030
ETI Import Services, Inc. | Chicago | 04-00050
Thomas A. Barnhart | Cleveland | 04-00228
Christopher A. LaVenture | Detroit | 99-00516
Colorado Customs Brokers, Inc. | Great Falls | 04-00047
Rafael Quiroz, Jr. | Laredo | 99-00394
F Zuniga, Inc. | Laredo | 04-00060
Rosa E. Garcia | Laredo | 99-00174
Jaime Salazar, Jr. | Laredo | 04-00027
Parkerco, Inc. | Laredo | 99-00559
Hyesook Kwak | Los Angeles | 04-00233
Packair Customs Brokers, Inc. | Los Angeles | 04-00225
American Customs Service, Inc. | Los Angeles | 99-00423
Celco Customs Service Co. | Los Angeles | 04-00204
Speedline Systems, Inc. | Los Angeles | 04-00206
Julie Mei Wang | Los Angeles | 99-00599
Worldpub Enterprise, Inc. | Los Angeles | 04-00107
Evans, Wood & Mooring, Inc. | Los Angeles | 99-00156
J & B Customhouse Broker, Inc. | Los Angeles | 04-00112
Valerie J. Knapp-Banker | Miami | 99-00302
Tom A. Burcet | Miami | 99-00582
All-Air Customs Brokers, Inc. | New York | 99-00456
New York Customs Brokers, Inc. | New York | 04-00026
Profreight Brokers, Inc. | New York | 99-00341
Harmonized Customs Brokers, Inc. | New York | 99-00246
All Flags Forwarding, Inc. | New York | 99-00372
Aries International Import Services | New York | 99-00314
Worchel Transport, Inc. | New York | 04-00068
International Communication Custom Broker, Inc. | New York | 99-00482
Harold Mistler | New York | 99-00318
EH Harms USA, Inc. | New York | 99-00382
Gemm Customs Brokers, Inc. | New York | 99-00361
Armen Cargo Services, Inc. | New York | 04-00215
Agra Services Brokerage, Inc. | New York | 99-00513
Renee L. Beltran | New York | 99-00070
A Burghart Shipping Company, Inc. | New York | 99-00132
Laufer Clearance Company, Inc. | New York | 99-00493
Tom Ahearn Associates, Inc. | New York | 99-00080
Dominion International, Inc. | Norfolk | 04-00081
Charles Godfrey | Philadelphia | 99-00287
Edward L. Hart, Jr. | Savannah | 99-00654
Page International, Inc. | Savannah | 99-00285
Fracht FWO, Inc. | Savannah | 04-00052
Rialto, Inc. | Seattle | 99-00515
Veritrade International, Inc. | Seattle | 99-00093
Duty Recovery Services, Inc. | Tampa | 99-00406

Dated: March 11, 2005.
Charles P. Bartoldus,
Acting Assistant Commissioner, Office of Field Operations.

[FR Doc. 05-5438 Filed 3-18-05; 8:45 am]

BILLING CODE 4820-02-P